DEPARTMENT OF THE INTERIOR

National Park Service

[N6552; NPS-WASO-NAGPRA-NPS0041141; PPWOCRADN0-PCU00RP14.R50000]

Notice of Inventory Completion: Robert S. Peabody Institute of Archaeology, Andover, MA

AGENCY: National Park Service, Interior.

ACTION: Notice.

SUMMARY: In accordance with the Native American Graves Protection and Repatriation Act (NAGPRA), the Robert S. Peabody Institute of Archaeology (RSPI) has completed an inventory of human remains and associated funerary objects and has determined that there is a cultural affiliation between the human remains and associated funerary objects and Indian Tribes or Native Hawaiian organizations in this notice.

DATES: Repatriation of the human remains and associated funerary objects in this notice may occur on or after October 27, 2025.

ADDRESSES: Send written requests for repatriation of the human remains and associated funerary objects in this notice to Ryan J. Wheeler, Robert S. Peabody Institute of Archaeology, Phillips Academy, 180 Main Street, Andover, MA 01810, email rwheeler@andover.edu.

SUPPLEMENTARY INFORMATION: This notice is published as part of the National Park Service's administrative responsibilities under NAGPRA. The determinations in this notice are the sole responsibility of the RSPI, and additional information on the determinations in this notice, including the results of consultation, can be found in its inventory or related records. The National Park Service is not responsible for the determinations in this notice.

Abstract of Information Available

Human remains representing, at least, one individual have been identified. The 36 associated funerary objects are one bone awl; one ceramic vessel; one lot ceramic sherd; 24 lots chipped stone tools; six lots ground stone tools; three lots lithics. Highland Creek is located in Union County, Kentucky (records also indicate Webster County, Kentucky) and was disturbed by Warren K. Moorehead in 1898 on behalf of Robert S. Peabody. The locality is called both Highland Creek and Village Site, Mouth of Highland Creek in RSPI records. The human remains and funerary objects were transferred to the RSPI (then known as the Department of Archaeology) when it was founded in 1901. Archaeologists in 1991 and 1999 investigated a site recorded as 15Un127 near the mouth of Highland Creek in Union County, describing a late Middle Archaic/early Late Archaic, and Late Woodland village site with dense midden deposits and burials—it seems likely that the individual and funerary items held at RSPI originated from 15Un127.

There is no known presence of any potentially hazardous substances.

Cultural Affiliation

Based on the information available and the results of consultation, cultural affiliation is clearly identified by the information available about the human remains and associated funerary objects described in this notice.

Determinations

The RSPI has determined that:

• The human remains described in this notice represent the physical remains of one individual of Native American ancestry.

• The 36 objects described in this notice are reasonably believed to have been placed intentionally with or near individual human remains at the time of death or later as part of the death rite or ceremony.

• There is a connection between the human remains and associated funerary objects described in this notice and the Eastern Band of Cherokee Indians.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 27, 2025. If competing requests for repatriation are received, the RSPI must determine the most appropriate requestor prior to repatriation. Requests for joint repatriation of the human remains and associated funerary objects are considered a single request and not competing requests. The RSPI is responsible for sending a copy of this notice to the Indian Tribes and Native Hawaiian organizations identified in this notice and any other consulting parties.

Authority: Native American Graves Protection and Repatriation Act, 25 U.S.C. 3003, and the implementing regulations, 43 CFR 10.10.

Dated: September 11, 2025.
Melanie O'Brien,
Manager, National NAGPRA Program.

[FR Doc. 2025-18579 Filed 9-24-25; 8:45 am]

BILLING CODE 4312-52-P